DEPARTMENT OF HEALTH AND HUMAN SERVICES

Office of the Secretary

[Document Identifier: HHS-OS-0945-0004]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for renewal of the approved information collection assigned OMB control number 0945-0004, scheduled to expire on May 31, 2016. Comments submitted during the first public review of this ICR will be provided to OMB. OMB will accept further comments from the public on this ICR during the review and approval period.

DATES: Comments on the ICR must be received on or before June 20, 2016.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the OMB control number 0945-0004 and document identifier HHS-OS-30D for reference.

Information Collection Request Title: Health Insurance Reform Security Standards—Final Rule.

The final rule was published in the Federal Register (68 FR 8334) as CMS-0049-F published on February 20, 2003. On May 22, 2013, CMS 0938-0949 was transferred to OCR 0945-0004.

Abstract: Office of Civil Rights, OCR requests approval to extend this collection without change while OMB reviews our request to incorporate the burdens of compliance with the Security Rule into another existing ICR (OMB #0945-0003, for the HIPAA Privacy Rule and Supporting Regulations), which is being revised to better reflect our experience in administering and enforcing the HIPAA Rules. This ICR extends the existing approved information collection for applicable compliance activities associated with the HIPAA Security Rule. When the revised ICR with OMB #0945-0003 is approved, we will request that this ICR (OMB #0945-0004) be discontinued.

Likely Respondents: HIPAA covered entities and their business associates.

Total Estimated Annualized Burden—Hours
Response type | Number of respondents | Number of responses per respondent | Average burden per response (in hours) | Total burden hours
45 CFR 164.306 Justification | 75,000 | 3 | 15/60 | 56,250
45 CFR 164.308 Security incident report | 50 | 1 | 8 | 400
45 CFR 164.308 Contingency plan | 60,000 | 1 | 8 | 480,000
45 CFR 164.310 Physical safeguard policies and procedures | 500 | 1 | 10/60 | 83
45 CFR 164.314 Problem reports | 10 | 1 | 1 | 10
Total |  |  |  | 536,743

Terry S. Clark,
Asst Information Collection Clearance Officer.

[FR Doc. 2016-11757 Filed 5-18-16; 8:45 am]

BILLING CODE 4153-01-P